DEPARTMENT OF TRANSPORTATION

Federal Aviation Administration

Notice of Intent To Rule on Request for Land Use Change From Aeronautical to Non-Aeronautical for 7.6 Acres of Land at Lebanon Municipal Airport, Lebanon, NH

AGENCY: Federal Aviation Administration (FAA), DOT.

ACTION: Request for public comments.

SUMMARY: Notice is being given that the FAA is considering a request from the City of Lebanon, NH to change the land use from Aeronautical to Non-Aeronautical use for 7.6 acres of land at Lebanon Municipal Airport, Lebanon, NH. The land is not required for aeronautical use and can be developed as an extension of the existing business park. The expansion would create a new long term revenue source for the airport and the proceeds will be deposited in the airport's operations and maintenance account.

DATES: Comments must be received on or before July 26, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Authority: 49 United States Code 47107(h)(2).

Issued in Burlington, Massachusetts, on June 21, 2021.
Julie Seltsam-Wilps,
Deputy Director.

[FR Doc. 2021-13484 Filed 6-24-21; 8:45 am]

BILLING CODE P